DEPARTMENT OF COMMERCE

International Trade Administration

19 CFR Part 351

[Docket No. 101130598-1052-02]

RIN 0625-AA87

Antidumping Proceedings: Calculation of the Weighted Average Dumping Margin and Assessment Rate in Certain Antidumping Duty Proceedings

AGENCY: Import Administration, International Trade Administration, Department of Commerce.

ACTION: Proposed rule; proposed modification; extension of comment period.

SUMMARY: On December 28, 2010, the Department of Commerce (“the Department”) published a proposed rule and proposed modification in the Federal Register requesting comments regarding the calculation of the weighted average dumping margin and antidumping duty assessment rate in certain antidumping duty proceedings. The Department has decided to extend the comment period, making the new deadline for submission of public comment February 18, 2011.

DATES: To be assured of consideration, written comments must be received no later than February 18, 2011.

ADDRESSES: All comments must be submitted through the Federal eRulemaking Portal at http://www.regulations.gov, Docket No. ITA-2010-0011, unless the commenter does not have access to the Internet. Commenters that do not have access to the Internet may submit the original and two copies of each set of comments by mail or hand delivery/courier to Ronald K. Lorentzen, Deputy Assistant Secretary for Import Administration, Room 1870, Department of Commerce, 14th Street and Constitution Avenue, NW., Washington, DC 20230. The comments should also be identified by Regulation Identifier Number (RIN) 0625-AA87.

The Department will consider all comments received before the close of the comment period. The Department will not accept comments accompanied by a request that part or all of the material be treated confidentially because of its business proprietary nature or for any other reason. All comments responding to this proposed rule and proposed modification will be a matter of public record and will be available for inspection at Import Administration's Central Records Unit (Room 7046 of the Herbert C. Hoover Building) and to the Department's Web site at http://www.trade.gov/ia/.

Any questions concerning file formatting, document conversion, access on the Internet, or other electronic filing issues should be addressed to Andrew Lee Beller, Import Administration Webmaster, at (202)-482-0866, e-mail address: webmaster-support@ita.doc.gov.

FOR FURTHER INFORMATION CONTACT: Quentin M. Baird, U.S. Department of Commerce, 14th Street and Constitution Avenue, NW., Washington, DC 20230; telephone: (202)-482-0834.

SUPPLEMENTARY INFORMATION: On December 28, 2010, the Department published a proposed rule and proposed modification in the Federal Register requesting comments regarding the calculation of the weighted average dumping margin and antidumping duty assessment rate in certain antidumping duty proceedings (75 FR 81533). That proposed rule and proposed modification indicated that public comments are due on January 27, 2011. In response to requests to extend this deadline, and to ensure parties have the opportunity to prepare thorough and comprehensive comments, the Department is extending the deadline for submitting comments by twenty-two days, until February 18, 2011. The Department will consider all comments received before the close of the comment period. Rebuttal comments received after the end of the comment period will be considered, if possible, but their consideration cannot be assured.

Dated: January 21, 2011.
Ronald K. Lorentzen,
Deputy Assistant Secretary for Import Administration.

[FR Doc. 2011-1946 Filed 1-31-11; 8:45 am]

BILLING CODE 3510-DS-P